DEPARTMENT OF ENERGY

Federal Energy Regulatory Commission

Notice of Transfer of License and Soliciting Comments, Motions To Intervene, and Protests

March 13, 2001.

Take notice that the following application has been filed with the Commission and is available for public inspection:

a. Application Type: Transfer of License.

b. Project No.: 11175-009.

c. Date Filed: February 6, 2001, supplement filed March 1, 2001.

d. Applicants: Crown Hydro Company and Crown Hydro LLC.

e. Name and Location of Project: The Crown Mill Hydroelectric Project is located on the Mississippi River in the City of Minneapolis, Hennepin County, Minnesota. The project occupies federal land administered by the U.S. Army Corps of Engineers.

f. Filed Pursuant to: Federal Power Act, 16 U.S.C. 791(a)-825(r).

g. Applicant Contact: Mr. Thomas R. Griffin, 5436 Columbus Avenue South, Minneapolis, MN 55417, (612) 825-1043.

h. FERC Contact: Any questions on this notice should be addressed to Mr. Lynn R. Miles at (202) 219-2671.

i. Deadline for filing comments and or motions: April 20, 2001.

All documents (original and eight copies) should be filed with: David P. Boergers, Secretary, Federal Energy Regulatory Commission, 888 First Street, NE., Washington DC 20426. Comments, protests and interventions may be filed electronically via the internet in lieu of paper. See, 18 CFR 385.2001(a)(1)(iii) and the instructions on the Commission's web site at http://www.ferc.fed.us/efi/doorbell.htm.

Please include the project number (P-11175-009) on any comments or motions filed.

j. Description of Proposal: Crown Hydro Company, the current licensee, requests Commission approval to reorganize itself as a limited liability corporation, stating that the change would be in form but not in management.

k. Locations of the application: A copy of the application is available for inspection and reproduction at the Commission's Public Reference Room, located at 888 First Street, NE., Room 2A, Washington, DC 20426, or by calling (202) 208-1371. The application may be viewed on the web at http://www.ferc.fed.us/online/rims.htm (Call (202) 208-2222 for assistance). A copy is also available for inspection and reproduction at the address in item g above.

l. Individuals desiring to be included on the Commission's mailing list should so indicate by writing to the Secretary of the Commission.

m. Comments, Protests, or Motions to Intervene—Anyone may submit comments, a protest, or a motion to intervene in accordance with the requirements of Rules of Practice and Procedure, 18 CFR 385.210, .211, .214. In determining the appropriate action to take, the Commission will consider all protests or other comments, filed, but only those who file a motion to intervene in accordance with the Commission's Rules may become a party to the proceeding. Any comments, protests, or motions to intervene must be received on or before the specified comment date for the particular application.

n. Filing and Service of Responsive Documents—Any filings must bear in all capital letters the title “COMMENTS”, “PROTEST”, OR “MOTION TO INTERVENE”, as applicable, and the Project Number of the particular application to which the filing refers. An additional copy must be sent to the Director, Division of Hydropower Administration and Compliance, Federal Regulatory Commission, at the above-mentioned address. A copy of any motion to intervene must also be served upon each representative of the Applicant specified in the particular application.

o. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-6659 Filed 3-16-01; 8:45 am]

BILLING CODE 6717-01-M